NUCLEAR REGULATORY COMMISSION

[Docket No. 52-016-COL; ASLBP No. 09-874-02-COL-BD01]

Atomic Safety and Licensing Board; Calvert Cliffs 3 Nuclear Project, LLC, and UniStar Nuclear Operating Services, LLC; Combined License Application for Calvert Cliffs Unit 3

November 9, 2011.

Before Administrative Judges: Ronald M. Spritzer, Chairman, Dr. Gary S. Arnold, Dr. William W. Sager.

Notice

Notice of Evidentiary Hearing and Opportunity To Provide Oral and Written Limited Appearance Statements

The Atomic Safety and Licensing Board hereby gives notice that it will convene an evidentiary session to receive testimony and exhibits in the contested portion of this proceeding regarding the application (COLA) by Calvert Cliffs 3 Nuclear Project, L.L.C., and UniStar Nuclear Operating Services, L.L.C. (Applicants) for a combined license (COL) to construct and operate one U.S. Evolutionary Power Reactor (U.S. EPR) to be located adjacent to the existing Calvert Cliffs Nuclear Power Plant (CCNPP), Units 1 and 2, near Lusby, Calvert County, Maryland. In addition, the Board gives notice that, in accordance with 10 CFR 2.315(a), it will entertain oral and written limited appearance statements from members of the public in connection with this proceeding.

I. Matter To Be Considered

This evidentiary hearing will consider one environmental contention, Contention 10C. Contention 10C, as restated by the Board, alleges that:

The DEIS discussion of a combination of alternatives is inadequate and faulty. By selecting a single alternative that under represents potential contributions of wind and solar power, the combination alternative depends excessively on the natural gas supplement, thus unnecessarily burdening this alternative with excessive environmental impacts.¹

¹ LBP-10-24, 72 NRC __ , __ (slip op. at 54) (Dec. 28, 2010).

II. Date, Time, and Location of Environmental Portion of the Contested Hearing

The evidentiary hearing will commence at 9:30 a.m., Eastern Standard Time (EST) on Thursday, January 26, 2012, at the Albright Building, 205 Main Street, Prince Frederick, Maryland 20678. The hearing will resume at 9:30 a.m. EST on Friday, January 27, 2012, if necessary. Parties and members of the public are requested to park in the offsite parking lot, which is within walking distance of the hearing venue, located at 200 Duke Street, Prince Frederick, Maryland 20678.

Members of the public and representatives of the media are welcome to attend and observe this evidentiary hearing. However, all signs, banners, posters, demonstrations, and displays are prohibited in accordance with NRC policy.²

² See Procedures for Providing Security Support for NRC Public Meetings/Hearings, 66 FR 31,719 (June 12, 2001) [hereinafter Meeting Security Guidelines].

All individuals attending the evidentiary hearing are advised that security measures will be employed at the entrance to the facility. As such, all individuals attending the evidentiary hearing should bring at least one form of government issued photo identification, refrain from bringing any unnecessary hand-carried items that might need to be examined individually, and allow sufficient time for security screening.

III. Date, Time, and Location of Oral Limited Appearance Statement Session

An oral limited appearance statement session regarding this Calvert Cliffs evidentiary hearing proceeding will be held on Wednesday, January 25, 2012, from 1 p.m. to 2:30 p.m. EST and from 7 to 8:30 p.m. EST at the Calvert Marine Museum, 14150 Solomons Island Road, Solomons, MD 20688.

Members of the public and representatives of the media are welcome to attend, observe, and participate in this oral limited appearance statement session, as outlined below. As required by NRC policy, signs, banners, posters, and displays not larger than 18″ x 18″ will be permitted at the oral limited appearance statement session, but may not be waved or held over one's head. Any sign, banner, poster or display affixed to a stick, or similar device, will not be permitted at the oral limited appearance statement session.³

³ See Meeting Security Guidelines.

All individuals attending the oral limited appearance statement session are advised that security measures will be employed at the entrance to the facility. As such, all individuals attending the oral limited appearance statement session should bring at least one form of government issued photo identification, refrain from bringing any unnecessary hand-carried items that might need to be examined individually, and allow sufficient time for security screening.

IV. Participation Guidelines for Oral Limited Appearance Statements

Any person not a party, or the representative of a party, to this mandatory hearing proceeding will be permitted to make an oral statement setting forth his or her position on matter of concern relating to the proceeding. Though these statements do not constitute testimony or evidence, they nonetheless may aid the Board and/or the parties in their consideration of the issues involved in this evidentiary hearing.

Oral limited appearance statements will be entertained during the hours specified above. In the event that all scheduled and unscheduled speakers present at the session have made a presentation, the Board reserves the right to terminate the session prior to the ending time listed above.

The time allotted for each limited appearance statement will be five minutes, but may be further limited depending on the number of written requests to make an oral statement that are submitted in accordance with section V below and/or the number or persons present at the designated time, so as to ensure that everyone will have an opportunity to speak.

V. Submitting a Request to Make an Oral Limited Appearance Statement

A person wishing to make an oral statement who has submitted a timely written request to do so will be given priority over those who have not filed such a request. To be considered timely, a written request to make an oral statement must either be mailed, faxed, or sent by email so as to be received by 5 p.m. EST on Friday, January 13, 2012. Written requests to make an oral statement should be submitted to:

Mail: Administrative Judge Ronald M. Spritzer, Atomic Safety and Licensing Board Panel, Mail Stop T-3F23, U.S. Nuclear Regulatory Commission, Washington, DC 20555-0001.

Fax: (301) 415-5599.

Email: kirsten.stoddard@nrc.gov and ronald.spritzer@nrc.gov.

VI. Submitting Written Limited Appearance Statements

As provided in 10 CFR 2.315(a), any person not a party, or a representative of a party, to the proceeding may submit a written statement setting forth his or her position on matters of concern relating to this proceeding. Although these statements do not constitute testimony or evidence, they nonetheless may assist the Board or the parties in their consideration of the issues in this proceeding.

A written limited appearance statement may be submitted at any time and should be sent to the Office of the Secretary using one of the methods prescribed below:

Mail: Office of the Secretary, Rulemaking and Adjudications Staff, U.S. Nuclear Regulatory Commission, Washington, DC 20444-0001.

Fax: (301) 415-1101.

Email: hearingdocket@nrc.gov.

In addition, using the same method of service, a copy of the written limited appearance statement should be sent to the Chairman of this Licensing Board as follows:

Mail: Administrative Judge Ronald M. Spritzer, Atomic Safety and Licensing Board Panel, Mail Stop T-3F23, U.S. Nuclear Regulatory Commission.

Fax: (301) 415-5599.

Email: ronald.spritzer@nrc.gov.

VII. Availability of Documentary Information Regarding the Proceeding

Applicants' application, along with various NRC Staff documents relating to the application, are available on the NRC Web site at http://www.nrc.gov/reactors/new-reactors/col/calvert-cliffs.html. These and other documents relating to this proceeding are available for public inspection at the Commission's Public Document Room (PDR), located at One White Flint North, 11555 Rockville Pike (first floor), Rockville, Maryland, 20352, or electronically from the publicly-available records component of the NRC's document system (ADAMS). ADAMS is accessible from the NRC web site at www.nrc.gov/reading-rm/adams/html (the Public Electronic Reading Room).⁴ Persons who do not have access to ADAMS or who encounter problems in accessing the documents located in ADAMS should contact the NRC PDR reference staff by telephone at (800) 397-4209 or (301) 415-4737 (available between 8 a.m. and 4 p.m. Eastern Time, Monday through Friday except federal holiday), or by email to pdr@nrc.gov.

⁴ Some documents determined by the staff to contain “sensitive” information are publicly available only in redacted form; non-sensitive documents are publicly available in their complete form. In addition, some documents that may contain information proprietary to AES are publicly available only in redacted form.

VIII. Conference Call

The Board intends on holding a conference call with the parties in early January to discuss further administrative details regarding this evidentiary hearing.

It is so ordered.

Dated in Rockville, Maryland, November 9, 2011. For the Atomic Safety And Licensing Board.⁵
⁵ Copies of this order were sent on this date by the agency's E-Filing system to the counsel/representatives for: (1) Joint Intervenors Nuclear Information and Resource Services, Beyond Nuclear, Public Citizen Energy Program, and Southern Maryland Citizens Alliance for Renewable Energy Solutions; (2) UniStar Nuclear Operating Services, LLC and Calvert Cliffs-3 Nuclear Project, LLC; (3) NRC Staff; and (4) State of Maryland.
Ronald M. Spritzer,
Chairman, Administrative Judge.

[FR Doc. 2012-335 Filed 1-10-12; 8:45 am]

BILLING CODE P